FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than September 14, 2021.

A. Federal Reserve Bank of Chicago (Colette A. Fried, Assistant Vice President) 230 South LaSalle Street, Chicago, Illinois 60690-1414:

1. The John Bradley Young, Sr., Marital Non-Exempt Trust, the John Bradley Young, Sr. Family Exempt Trust, the John Bradley Young, Sr. Marital Exempt Trust, the Jeff Young 2021 Irrevocable Trust, and the J. Bradley Young, Jr., 2021 Irrevocable Trust, Jeffrey T. Young, individually, and as trustee of the aforementioned trusts, all of Centerville, Iowa; to retain voting shares of Bradley Bancorp, Inc., and thereby indirectly retain voting shares of Iowa Trust and Savings Bank, both of Centerville, Iowa.

In addition, the J. Bradley Young, Jr., Trust, Iowa Trust and Savings Bank, as trustee, and J. Bradley Young, Jr., as settlor with voting rights of Bradley Bancorp Inc., all of Centerville, Iowa; to form the Young Family Control Group, a group acting in concert. to retain voting shares of Bancorp, and thereby indirectly retain voting shares of the Bank.

Board of Governors of the Federal Reserve System, August 25, 2021.
Michele Taylor Fennell,
Deputy Associate Secretary of the Board.

[FR Doc. 2021-18656 Filed 8-27-21; 8:45 am]

BILLING CODE P